DEPARTMENT OF TRANSPORTATION

Federal Aviation Administration

14 CFR Part 39

[Docket No. FAA-2014-0920; Directorate Identifier 2014-NM-192-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 777-200, -200LR, -300ER, and 777F series airplanes. This proposed AD was prompted by a report of a jettison fuel pump that was shut off by the automatic shutoff system during the center tank fuel scavenge process on a short-range flight. This proposed AD would require making wiring changes, modifying certain power panels, installing electrical load management system software, and accomplishing a functional test. We are proposing this AD to prevent extended dry running of the jettison fuel pumps, which can be a potential ignition source inside the main fuel tanks, and consequent fuel tank fire or explosion in the event that the jettison pump overheats or has an electrical fault.

DATES: We must receive comments on this proposed AD by January 26, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0920; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Takahisa Kobayashi, Aerospace Engineer, Propulsion Branch, ANM-140S, FAA, Seattle Aircraft Certification Office, 1601 Lind Avenue SW., Renton, WA 98057-3356; phone: 425-917-6499; fax: 425-917-6590; email: takahisa.kobayashi@faa.gov.

SUPPLEMENTARY INFORMATION:

Comments Invited

We invite you to send any written relevant data, views, or arguments about this proposal. Send your comments to an address listed under the ADDRESSES section. Include “Docket No. FAA-2014-0920; Directorate Identifier 2014-NM-192-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of a jettison fuel pump that was shut off by the automatic shutoff system during the center tank fuel scavenge process on a short-range flight. The manufacturer had made a design change to the fuel scavenge system to improve its operational reliability under cold temperatures. With this design change incorporated, the jettison fuel pumps in the main fuel tanks are operated every flight as part of the fuel scavenge system. For certain airplanes on which this change has been incorporated, the jettison fuel pumps are automatically shut off after four hours of operating the fuel scavenge system, or when a low pressure condition of the jettison fuel pump is detected under failure conditions such as a fuel leak. The manufacturer discovered that the jettison pump inlets can be uncovered during normal fuel scavenge operation depending on the flight duration (less than four hours) and fuel loading in the main fuel tanks. In addition, the automatic shutoff system can fail in a latent manner. If the automatic shutoff system fails and the jettison pump inlets are uncovered as expected during normal fuel scavenge operation on short-range flights of less than four hours, the jettison pump will run dry for an extended period of time. Extended dry running of the jettison fuel pumps can be a potential ignition source inside the main fuel tanks, and could cause a fuel tank fire or explosion in the event that the jettison pump overheats or has an electrical fault.

Relevant Service Information

We reviewed Boeing Special Attention Bulletin 777-28-0083, dated September 8, 2014. For information on the procedures and compliance times, see this service information at http://www.regulations.gov by searching for and locating Docket No. FAA-2014-0920.

FAA's Determination

We are proposing this AD because we evaluated all the relevant information and determined the unsafe condition described previously is likely to exist or develop in other products of the same type design.

Proposed AD Requirements

This proposed AD would require accomplishing the actions specified in the service information identified previously.

Explanation of “RC” Steps or Procedures in Service Information

The FAA worked in conjunction with industry, under the Airworthiness Directives Implementation Aviation Rulemaking Committee (AD ARC), to enhance the AD system. One enhancement was a new process for annotating which steps or procedures in the service information are required for compliance with an AD. Differentiating these steps or procedures from other tasks in the service information is expected to improve an owner's/operator's understanding of crucial AD requirements and help provide consistent judgment in AD compliance. The actions specified in the service information described previously include steps or procedures that are identified as RC (required for compliance) because these steps or procedures have a direct effect on detecting, preventing, resolving, or eliminating an identified unsafe condition.

As noted in the specified service information, steps or procedures identified as RC must be done to comply with the proposed AD. However, steps or procedures that are not identified as RC are recommended. Those steps or procedures that are not identified as RC may be deviated from, done as part of other actions, or done using accepted methods different from those identified in the service information without obtaining approval of an alternative method of compliance (AMOC), provided the steps or procedures identified as RC can be done and the airplane can be put back in a serviceable condition. Any substitutions or changes to steps or procedures identified as RC will require approval of an AMOC.

Costs of Compliance

We estimate that this proposed AD affects 11 airplanes of U.S. registry.

We estimate the following costs to comply with this proposed AD:

Estimated Costs
Action | Labor cost | Parts cost | Cost per product | Cost on U.S. operators
Groups 1 through Group 4 airplanes:
Hardware and software changes (7 airplanes) | Up to 31 work-hours × $85 per hour = $2,635 | $1,286 | $3,921 | $27,447
Group 5 airplanes:
ELMS2 software update (4 airplanes) | 8 work-hours × $85 per hour = $680 | 0 | 680 | 2,720

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2014-0920; Directorate Identifier 2014-NM-192-AD.

(a) Comments Due Date

We must receive comments by January 26, 2015.

(b) Affected ADs

None.

(c) Applicability

This AD applies to The Boeing Company Model 777-200, -200LR, 300ER and 777F series airplanes, certificated in any category, as identified in Boeing Special Attention Service Bulletin 777-28-0083, dated September 8, 2014.

(d) Subject

Air Transport Association (ATA) of America Code 28: Fuel.

(e) Unsafe Condition

This AD was prompted by a report of a jettison fuel pump that was shut off by the automatic shutoff system during the center tank fuel scavenge process on a short-range flight. We are issuing this AD to prevent extended dry running of the jettison fuel pumps, which can be a potential ignition source inside the main fuel tanks, and consequent fuel tank fire or explosion in the event that the jettison pump overheats or has an electrical fault.

(f) Compliance

Comply with this AD within the compliance times specified, unless already done.

(g) Wiring and Software Changes

(1) For Groups 1 through 4 airplanes, as identified in Boeing Special Attention Service Bulletin 777-28-0083, dated September 8, 2014: Within 36 months after the effective date of this AD, make wiring changes, modify power panels P110 and P210, install electrical load management system 2 (ELMS2) software, and accomplish the functional test and all applicable corrective actions, in accordance with the Accomplishment Instructions of Boeing Special Attention Service Bulletin 777-28-0083, dated September 8, 2014. Do all applicable corrective actions before further flight.

(2) For Group 5 airplanes, as identified in Boeing Special Attention Service Bulletin 777-28-0083, dated September 8, 2014: Within 12 months after the effective date of this AD, install ELMS2 software, and accomplish the functional test and all applicable corrective actions, in accordance with the Accomplishment Instructions of Boeing Special Attention Service Bulletin 777-28-0083, dated September 8, 2014. Do all applicable corrective actions before further flight.

Note 1 to paragraph (g) of this AD: GE Aviation Service Bulletin 5000ELM-28-075, Revision 1, dated August 5, 2014; and GE Aviation Service Bulletin 6000ELM-28-076, Revision 1, dated August 5, 2014; are additional sources of guidance for modifying the P110 and P210 panels, respectively.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i)(l) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) If the service information contains steps or procedures that are identified as RC (Required for Compliance), those steps or procedures must be done to comply with this AD; any steps or procedures that are not identified as RC are recommended. Those steps or procedures that are not identified as RC may be deviated from, done as part of other actions, or done using accepted methods different from those identified in the specified service information without obtaining approval of an AMOC, provided the steps or procedures identified as RC can be done and the airplane can be put back in a serviceable condition. Any substitutions or changes to steps or procedures identified as RC require approval of an AMOC.

(i) Related Information

(1) For more information about this AD, contact Takahisa Kobayashi, Aerospace Engineer, Propulsion Branch, ANM-140S, FAA, Seattle Aircraft Certification Office, 1601 Lind Avenue SW., Renton, WA 98057-3356; phone: 425-917-6499; fax: 425-917-6590; email: takahisa.kobayashi@faa.gov.

(2) For service information identified in this AD, contact Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Issued in Renton, Washington, on November 28, 2014.
John P. Piccola, Jr.,
Acting Manager, Transport Airplane Directorate, Aircraft Certification Service.

[FR Doc. 2014-28921 Filed 12-9-14; 8:45 am]

BILLING CODE 4910-13-P